DEPARTMENT OF ENERGY

Federal Energy Regulatory Commission

Combined Notice of Filings #1

Take notice that the Commission received the following exempt wholesale generator filings:

Docket Numbers: EG16-144-000.

Applicants: Pioneer Wind Park I LLC.

Description: Notice of Self-Certification of Exempt Wholesale Generator Status of Pioneer Wind Park I, LLC.

Filed Date: 9/2/16.

Accession Number: 20160902-5202.

Comments Due: 5 p.m. ET 9/23/16.

Take notice that the Commission received the following electric rate filings:

Docket Numbers: ER10-2984-027.

Applicants: Merrill Lynch Commodities, Inc.

Description: Notice of Non-Material Change in Status of Merrill Lynch Commodities, Inc.

Filed Date: 9/6/16.

Accession Number: 20160906-5252.

Comments Due: 5 p.m. ET 9/27/16.

Docket Numbers: ER16-2544-000.

Applicants: PJM Interconnection, L.L.C.

Description: § 205(d) Rate Filing: Original Interconnection Coordination Agreement SA No. 4531, Project No. b2633.2 to be effective 8/3/2016.

Filed Date: 9/2/16.

Accession Number: 20160902-5159.

Comments Due: 5 p.m. ET 9/23/16.

Docket Numbers: ER16-2545-000.

Applicants: Midcontinent Independent System Operator, Inc., ITC Midwest LLC.

Description: § 205(d) Rate Filing: 2016-09-02_SA 2945 ITC Midwest-Interstate Power & Light FSA (J233) to be effective 10/1/2016.

Filed Date: 9/2/16.

Accession Number: 20160902-5162.

Comments Due: 5 p.m. ET 9/23/16.

Docket Numbers: ER16-2546-000.

Applicants: Southern California Edison Company.

Description: § 205(d) Rate Filing: Letter Agreement ACES Project to be effective 9/6/2016.

Filed Date: 9/2/16.

Accession Number: 20160902-5215.

Comments Due: 5 p.m. ET 9/23/16.

Docket Numbers: ER16-2547-000.

Applicants: PacifiCorp.

Description: § 205(d) Rate Filing: UAMPS E&P Agreement—Lehi to be effective 11/2/2016.

Filed Date: 9/2/16.

Accession Number: 20160902-5218.

Comments Due: 5 p.m. ET 9/23/16.

Docket Numbers: ER16-2548-000.

Applicants: Southern California Edison Company.

Description: § 205(d) Rate Filing: Letter Agreement ACES Project—WDT 1430 Grapeland to be effective 9/6/2016.

Filed Date: 9/2/16

Accession Number: 20160902-5234.

Comments Due: 5 p.m. ET 9/23/16.

Docket Numbers: ER16-2549-000.

Applicants: Pinetree Power-Tamworth, LLC.

Description: Compliance filing: Baseline Market-Based Rate Tariff to be effective 9/21/2016.

Filed Date: 9/2/16.

Accession Number: 20160902-5244.

Comments Due: 5 p.m. ET 9/23/16.

Docket Numbers: ER16-2550-000.

Applicants: Pacific Gas and Electric Company.

Description: Notice of Termination of Small Generator Interconnection Agreement, Service Agreement No. 329 of Pacific Gas and Electric Company.

Filed Date: 9/2/16.

Accession Number: 20160902-5258.

Comments Due: 5 p.m. ET 9/23/16.

Docket Numbers: ER16-2551-000.

Applicants: PJM Interconnection, L.L.C.

Description: § 205(d) Rate Filing: Queue Position AA2-159, Original Service Agreement No. 4519 to be effective 8/4/2016.

Filed Date: 9/6/16.

Accession Number: 20160906-5277.

Comments Due: 5 p.m. ET 9/27/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 6, 2016.
Nathaniel J. Davis, Sr.,
Deputy Secretary.

[FR Doc. 2016-21919 Filed 9-12-16; 8:45 am]

BILLING CODE 6717-01-P